Title 3—

The President

Proclamation 9297 of July 10, 2015

Establishment of the Basin and Range National Monument

By the President of the United States of America

A Proclamation

The Basin and Range area of southeastern Nevada is an iconic American landscape. The area is one of the most undisturbed corners of the broader Great Basin region, which extends from the Sierra Nevada Mountains in the west to the Colorado Plateau in the east. The pattern of basin, fault, and range that characterizes this region creates a dramatic topography that has inspired inhabitants for thousands of years. The vast, rugged landscape redefines our notions of distance and space and brings into sharp focus the will and resolve of the people who have lived here. The unbroken expanse is an invaluable treasure for our Nation and will continue to serve as an irreplaceable resource for archaeologists, historians, and ecologists for generations to come.

Over both geologic and historical time, the Basin and Range area has been a landscape in motion. The area exemplifies the unique topography and geologic history of the Great Basin region and has long been the subject of studies of the tectonic and volcanic mechanisms responsible for this landscape, including crustal extension, deformation, and rifting. The thrust and fault block formations found here, along with the area's stratigraphy, have been instrumental in understanding the nearly 500 million-year history of the region. Among the geologic features found in the Basin and Range area are natural arches, caves, and sheer cliffs that offer stunning vistas. Evidence of the Alamo bolide impact, a high-velocity impact from space about 367 million years ago, can also be found here.

Volcanism and magmatism in this area during the Tertiary period contributed to the formation of numerous mountain ranges that interrupt the area's basins. The Golden Gate Range runs north-south through the center of the Basin and Range area, separating Garden Valley in the west from Coal Valley in the east. The range's block-faulted mountains are split by alluvial gaps carved by water from the valleys' now-dry lake beds. The Mount Irish Range in the southern portion of the area is topped by the steep and rugged 8,743-foot Mount Irish. The Worthington Mountains in the southwest corner of the Basin and Range area are composed of sheer limestone ridges reaching an elevation of 8,850 feet. These mountains were formed by thrust faults and contain at least three known caves, including the Leviathan Cave, which features stalactites, stalagmites, flow stones, soda straws, a cave shield, and rim pools. Data collected from these cave formations has contributed to research of the area's prehistoric climate.

The Basin and Range area spans the transition between the Mojave Desert and the sagebrush steppe of the Great Basin region. The area is one of the largest ecologically intact landscapes in the Great Basin region, providing habitat connectivity and migration corridors for a wide variety of animal species and affording researchers the ability to conduct studies over broad scales. At lower elevations, alluvial fans provide a home for sagebrush communities and mixed desert scrublands, where visitors can see big sagebrush, black sagebrush, little sagebrush, yellow rabbitbrush, saltbush, and mormon tea. Among the herbaceous species here are Indian ricegrass, Sandberg bluegrass, needlegrass, and needle and thread. Pockets of native grasslands can be found in Coal Valley, and the Basin and Range area is home to the endemic White River catseye. A more arid ecosystem can also be found in some of the lowest elevations, where cholla, spinystar, Engelmann's hedgehog cactus, Mojave kingcup cactus, tulip pricklypear, grizzlybear pricklypear, Blaine fishhook cactus, and other cactus species dominate. At middle elevations, sagebrush gives way to singleleaf pinyon, Utah juniper, curl-leaf mountain mahogany, quaking aspen, and other conifers, along with Idaho fescue and bluebunch wheatgrass. At higher elevations, ponderosa and limber pines become more common. Bristlecone pines over 2,000 years old stand sentinel in the high peaks of the Worthington Mountains.

The area provides important habitat for game species including desert bighorn sheep, mule deer, Rocky Mountain elk, and pronghorn. Other mammal species, including mountain lion, bobcat, kit fox, cottontail rabbit, pygmy rabbit, black-tailed jackrabbit, pale kangaroo mouse, and dark kangaroo mouse, also make their homes here. Many bat species reside in the Basin and Range area's caves and use its lowlands for foraging. The area provides habitat for lizards such as the greater short-horned lizard, desert spiny lizard, yellow-backed spiny lizard, Great Basin collared lizard, common zebra-tailed lizard, long-nosed leopard lizard, Great Basin fence lizard, northern sagebrush lizard, common side-blotched lizard, desert horned lizard, Great Basin skink, and Great Basin whiptail, and likely habitat for gila monsters. Snakes including the desert nightsnake, Great Basin rattlesnake, long-nosed snake, Sonoran mountain kingsnake, striped whipsnake, ringneck snake, gopher snake, and western terrestrial garter snake also make their home in this area. Great Basin spadefoot toads, western toads, and Baja California treefrogs can also be found in the area.

A number of bird species grace the landscape. These include game species such as the chukar, Gambel's quail, and a variety of dove and pigeon species. The dry basins provide habitat for sage thrasher, Brewer's sparrow, and western burrowing owl. Numerous bird species inhabit the Worthington Mountains, including pinyon jay, Clark's nutcracker, mountain bluebird, loggerhead shrike, and green-tailed towhee, along with raptors including golden eagles, Cooper's hawks, and ferruginous hawks.

The land tells the story of a rich cultural tradition. From the earliest human inhabitants 13,000 years ago, to miners and ranchers in the past century and a half, to a modern artist in recent decades, the area's residents have created and maintain notable legacies. The earliest Paleo-Indian inhabitants of the Basin and Range area exploited food sources along the shores of now-dry lakes. These nomadic people left important traces of their presence, including a rare obsidian Clovis point in the Coal Valley Water Gap and a succession of significant campsites and artifacts around the prehistoric Coal Valley Lake.

Starting about 8,000 years ago, a drier, warmer climate forced inhabitants to move beyond the lake beds to take advantage of the rock shelters, caves, and springs that dot the landscape. These people, from the Desert Archaic to the Fremont people about 1,500 years ago, to ancestors of the Western Shoshone and Southern Paiute Tribes about 1,000 years ago, used the land in accordance with seasonal changes in foraging and hunting resources. Similar to their Paleo-Indian predecessors, these cultural groups lacked intensive settlements in this area but left a rich archaeological record, including the excavated Civa Shelter II in the Golden Gate Range. Occupied first by the Fremont people about 1,400 years ago, the cave was later intermittently used by the Shoshone, who left a diverse set of artifacts, including worked bone, shell beads, seed processing equipment, animal remains, clay stockpiles, and over 100 projectile points, suggesting pronounced and extended use for hunting, gathering, and pottery making.

In the south and southeastern reaches of the Basin and Range area, early humans' stories are told at numerous petroglyph sites, including rock art in the White River Narrows Historic District, Mount Irish Archaeological Area, and the Shooting Gallery rock art site. Listed in the National Register of Historic Places, the White River Narrows Archaeological District represents one of the largest concentrations of prehistoric rock art in eastern Nevada and includes panels dating back 4,000 years and contains the northernmost known examples of the Pahranagat style of rock art. Both the Mount Irish Archaeological Site and the Shooting Gallery area are well known for bighorn sheep motifs, among other styles of rock art. Additionally, the rock features of the Shooting Gallery area may have been used by early inhabitants as hunting blinds. Much of the Basin and Range area has not been comprehensively studied for archaeological resources, though recent surveys suggest that additional resources may be found across the area. Protection of the area will therefore provide important opportunities for archaeologists and historians to further study and understand the evolving relationship between this unique landscape and its human inhabitants.

The Basin and Range area was mostly unknown to European-Americans until the 1820s, when explorers and fur trappers first visited, including Jedediah Smith, part-owner of the Rocky Mountain Fur Company and arguably the most famous of the “Mountain Men.” Mormon settlers came to the area in the mid-19th century. About the same time, the explorer, politician, and military officer John C. Frémont traversed this area while surveying for a transcontinental railroad. Mining began in the area in the 1860s when, reportedly, Native Americans escorted prospectors out to ore veins in outcroppings in the north end of the Worthington Mountains. Here the miners established what was originally called the Worthington Mining District, and subsequently renamed the Freiberg Mining District. The silver, lead, zinc, copper, and tungsten deposits found there supported modest historical production. Head frames, mining cabins, and other structures associated with the region's mining history can be found in the Mount Irish area. Explorer and conservationist John Muir reported that he holed up in a canyon in the Golden Gate Range for a week in 1878. During the late 19th century, Basque and other ranchers brought sheep and cattle ranching into Garden Valley, and ranching remains to this day.

The location of a recent work of land art in the Basin and Range area reflects the rugged landscape and confirms its importance as a unique geologic area. The artist Michael Heizer chose the area for his work City, begun in 1972 and now nearing completion. Sitting on privately-held land in Garden Valley, City is one of the most ambitious examples of the distinctively American land art movement. Built into and out of the vast undeveloped expanse of Garden Valley, the work combines modern abstract architecture and engineering with ancient American aesthetic influences on a monumental scale, roughly the size of the National Mall, and evokes the architectural forms of ancient Mesoamerican ceremonial cities like Teotihuacán and Chichén Itzá. The presence of City in this stark and silent landscape provides the visitor a distinctive lens through which to experience and interact with Garden Valley.

The protection of the Basin and Range area will preserve its cultural, prehistoric, and historic legacy and maintain its diverse array of natural and scientific resources, ensuring that the prehistoric, historic, and scientific values of this area remain for the benefit of all Americans.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which in all cases shall be confined to the smallest area compatible with the proper care and management of the objects to be protected;

WHEREAS, it is in the public interest to preserve the objects of scientific and historic interest on the Basin and Range lands;

NOW, THEREFORE, I, BARACK OBAMA, President of the United States of America, by the authority vested in me by section 320301 of title 54, United States Code, hereby proclaim the objects identified above that are situated upon lands and interests in lands owned or controlled by the Federal Government to be the Basin and Range National Monument (monument) and, for the purpose of protecting those objects, reserve as part thereof all lands and interests in lands owned or controlled by the Federal Government within the boundaries described on the accompanying map, which is attached to and forms a part of this proclamation. These reserved Federal lands and interests in lands encompass approximately 704,000 acres. The boundaries described on the accompanying map are confined to the smallest area compatible with the proper care and management of the objects to be protected.

All Federal lands and interests in lands within the boundaries of the monument are hereby appropriated and withdrawn from all forms of entry, location, selection, sale, or other disposition under the public land laws, from location, entry, and patent under the mining laws, and from disposition under all laws relating to mineral and geothermal leasing, other than by exchange that furthers the protective purposes of the monument.

The establishment of the monument is subject to valid existing rights. If the Federal Government acquires any lands or interests in lands not owned or controlled by the Federal Government within the boundaries described on the accompanying map, such lands and interests in lands shall be reserved as a part of the monument, and objects identified above that are situated upon those lands and interests in lands shall be part of the monument, upon acquisition of ownership or control by the Federal Government.

The Secretary of the Interior (Secretary) shall manage the monument through the Bureau of Land Management (BLM) as a unit of the National Landscape Conservation System, pursuant to applicable legal authorities to protect the objects identified above.

For purposes of the care and management of the objects identified above, the Secretary, through BLM, shall within 3 years of the date of this proclamation prepare and maintain a management plan for the monument and shall provide for maximum public involvement in the development of that plan including, but not limited to, consultation with State, tribal, and local governments.

Nothing in this proclamation shall be deemed to limit the authority of the Secretary, under applicable law other than this proclamation, to undertake or authorize activities on public land in the vicinity of the sculpture City for the purpose of preventing harm to the artwork, including activities to improve drainage and to prevent erosion, consistent with the care and management of the objects identified above. The management plan for the monument shall provide for reasonable use of existing roads within the monument to facilitate public access to City.

Except for emergency or authorized administrative purposes, motorized vehicle use in the monument shall be permitted only on roads existing as of the date of this proclamation. Non-motorized mechanized vehicle use shall be permitted only on roads and trails designated for their use consistent with the care and management of the objects identified above. The Secretary shall prepare a transportation plan that designates the roads and trails where motorized or non-motorized mechanized vehicle use will be permitted.

Except as necessary for the care and management of the objects identified above or for the purpose of permitted livestock grazing, no new rights-of-way for electric transmission or transportation shall be authorized within the monument. Other rights-of-way may be authorized only if consistent with the care and management of the objects identified above.

Nothing in this proclamation shall be deemed to enlarge or diminish the rights of any Indian tribe. The Secretary shall, to the maximum extent permitted by law and in consultation with Indian tribes, ensure the protection of Indian sacred sites and cultural sites in the monument and provide access to the sites by members of Indian tribes for traditional cultural and customary uses, consistent with the American Indian Religious Freedom Act (42 U.S.C. 1996) and Executive Order 13007 of May 24, 1996 (Indian Sacred Sites).

Nothing in this proclamation shall be deemed to affect authorizations for livestock grazing, or administration thereof, on Federal lands within the monument. Livestock grazing within the monument shall continue to be governed by laws and regulations other than this proclamation.

This proclamation does not alter or affect the valid existing water rights of any party, including the United States. This proclamation does not reserve water as a matter of Federal law.

Nothing in this proclamation shall be deemed to enlarge or diminish the jurisdiction of the State of Nevada, including its jurisdiction and authority with respect to fish and wildlife management.

Nothing in this proclamation shall preclude low-level overflights of military aircraft, the designation of new units of special use airspace, or the use or establishment of military flight training routes over the lands reserved by this proclamation. Nothing in this proclamation shall preclude air or ground access for: (i) emergency response; (ii) existing or new electronic tracking and communications; (iii) landing and drop zones; and (iv) readiness training by Air Force, Joint, and Coalition forces, including training using motorized vehicles both on- and off-road, in accordance with applicable interagency agreements. Nothing in this proclamation shall preclude the Secretary of Defense from entering into new or renewed agreements with the Secretary of the Interior concerning these uses, consistent with the care and management of the objects to be protected.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this tenth day of July, in the year of our Lord two thousand fifteen, and of the Independence of the United States of America the two hundred and fortieth.

Billing code 3295-F5-P

[FR Doc. 2015-17549

Filed 7-14-15; 11:15 am]

Billing code 4310-10-C